DEPARTMENT OF AGRICULTURE

Forest Service

Lincoln Resource Advisory Committee

AGENCY: Forest Service, USDA.

ACTION: Notice of Meeting.

SUMMARY: The Lincoln Resource Advisory Committee (RAC) will hold a virtual meeting. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/pts.

DATES: The meeting will be held on Wednesday, May 5, 2021, at 1:00 p.m., Mountain Daylight Time. At this time the meeting will be held virtually. A virtual link will be provided for the public. All RAC meetings are subject to cancellation. For status of the meeting prior to attendance, please contact the person listed under FOR FURTHER INFORMATION CONTACT.

ADDRESSES: The meeting will be held virtually only, and a link will be provided for the public. Written comments may be submitted to RAC Coordinator, Larona Rebo, Kootenai National Forest Supervisor's Office, 31374 U.S. Hwy. 2, Libby, Montana 59923.

FOR FURTHER INFORMATION CONTACT: Larona Rebo, RAC Coordinator, by phone at 406-283-7764 or via email at larona.rebo@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Discuss, prioritize, and approve RAC project proposals: and

2. Receive public comment.

The virtual meeting is open to the public. The agenda will include time for people to make oral statements, subject to time requirements by the RAC facilitator. Anyone who would like to bring related matters to the attention of the committee may file written statements with the committee staff before or after the meeting.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: March 12, 2021.
Cikena Reid,
USDA Committee Management Officer.

[FR Doc. 2021-05528 Filed 3-16-21; 8:45 am]

BILLING CODE 3411-15-P